DEPARTMENT OF HOMELAND SECURITY

Cybersecurity and Infrastructure Security Agency; Notice of Renewal of the Critical Infrastructure Partnership Advisory Council Charter

AGENCY: Cybersecurity and Infrastructure Security Agency (CISA), DHS.

ACTION: Notice of availability; renewal of Critical Infrastructure Partnership Advisory Council Charter.

SUMMARY: On November 30, 2018, the Department renewed the Critical Infrastructure Partnership Advisory Council Charter. Through this notice, the Department is making the renewed CIPAC Charter publicly available and highlighting updated information and guidelines that have been included in the renewed charter.

FOR FURTHER INFORMATION CONTACT: Renee Murphy, Designated Federal Officer, (202) 590-0840, CIPAC@hq.dhs.gov.

SUPPLEMENTARY INFORMATION: DHS established the Critical Infrastructure Partnership Advisory Council (CIPAC) and issued the initial CIPAC Charter on March 24, 2006.¹ 71 FR 14930. The CIPAC facilitates interactions between government officials and representatives of owners and/or operators for each of the critical infrastructure sectors defined by Presidential Policy Directive 21 and identified in the National Infrastructure Protection Plan 2013: Partnering for Critical Infrastructure Security and Resilience. Please visit http://www.dhs.gov/cipac for more information on the CIPAC, the activities supported by the CIPAC, the CIPAC Membership Roster, and Council information.

¹ The CIPAC was established consistent with 6 U.S.C. 121 and 6 U.S.C. 451(a). Pursuant to the Cybersecurity and Infrastructure Security Agency Act of 2018, the National Protection Program Directorate (NPPD) was redesignated as CISA and the authorities related to the CIPAC under 6 U.S.C. 121 were transferred to 6 U.S.C. 652. See 6 U.S.C. 652.

On November 30, 2018, the Secretary of Homeland Security, Kirstjen M. Nielsen signed a renewal of the CIPAC Charter for an additional two years. The renewed CIPAC Charter supersedes the CIPAC Charter dated November 30, 2016 and is available on the CIPAC website at http://www.dhs.gov/cipac. The renewed CIPAC Charter includes updated information and guidelines concerning: (1) The formation and governance of working groups and cross sector activities; (2) the role of subject matter experts and limitations on their participation in the CIPAC; (3) types of meetings that occur under the CIPAC; and (4) ethics, government procurement, and intellectual property requirements for the CIPAC.

Dated: March 13, 2019.
Renee Murphy,
Designated Federal Officer, Critical Infrastructure Partnership Advisory Council, Department of Homeland Security.

[FR Doc. 2019-05966 Filed 3-27-19; 8:45 am]

BILLING CODE 9110-9P-P